DEPARTMENT OF HEALTH AND HUMAN SERVICES

Centers for Medicare & Medicaid Services

Privacy Act of 1974; CMS Computer Match No. 2016-11; HHS Computer Match No. 1601; Effective Date—April 2, 2016; Expiration Date—October 2, 2017

AGENCY: Centers for Medicare & Medicaid Services (CMS), Department of Health and Human Services (HHS).

ACTION: Notice of computer matching program.

SUMMARY: In accordance with the requirements of the Privacy Act of 1974, as amended, this notice announces the establishment of a computer matching program that CMS plans to conduct with the State-based Administering Entities.

DATES: Comments are invited on all portions of this notice. Submit public comments on or before April 1, 2016. The computer matching program will become effective no sooner than 40 days after the report of the computer matching program is sent to the Office of Management and Budget (OMB) and copies of the agreement are sent to Congress, or 30 days after publication in the Federal Register, whichever is later.

ADDRESSES: The public should send comments to: CMS Privacy Officer, Division of Security, Privacy Policy and Governance, Information Security and Privacy Group, Office of Enterprise Information, CMS, Room N1-24-08, 7500 Security Boulevard, Baltimore, Maryland 21244-1850. Comments received will be available for review at this location, by appointment, during regular business hours, Monday through Friday from 9:00 a.m.-3:00 p.m., Eastern Time zone.

FOR FURTHER INFORMATION CONTACT: Elizabeth Kane, Acting Director, Verifications Policy & Operations Division, Eligibility and Enrollment Policy and Operations Group, Center for Consumer Information and Insurance Oversight, CMS, 7501 Wisconsin Avenue, Bethesda, MD 20814, Office Phone: (301) 492-4418, Facsimile: (443) 380-5531, Email: Elizabeth.Kane@cms.hhs.gov.

SUPPLEMENTARY INFORMATION: The Computer Matching and Privacy Protection Act of 1988 (Pub. L. 100-503), amended the Privacy Act (5 U.S.C. 552a) by describing the manner in which computer matching involving Federal agencies could be performed and adding certain protections for individuals applying for and receiving Federal benefits. Section 7201 of the Omnibus Budget Reconciliation Act of 1990 (Pub. L. 101-508) further amended the Privacy Act regarding protections for such individuals. The Privacy Act, as amended, regulates the use of computer matching by Federal agencies when records in a system of records are matched with other Federal, state, or local government records. It requires Federal agencies involved in computer matching programs to:

1. Negotiate written agreements with the other agencies participating in the matching programs;

2. Obtain the Data Integrity Board approval of the match agreements;

3. Furnish detailed reports about matching programs to Congress and OMB;

4. Notify applicants and beneficiaries that their records are subject to matching; and,

5. Verify match findings before reducing, suspending, terminating, or denying an individual's benefits or payments.

This matching program meets the requirements of the Privacy Act of 1974, as amended.

Walter Stone,
CMS Privacy Officer, Centers for Medicare & Medicaid Services.

CMS Computer Match No. 2016-11

HHS Computer Match No. 1601

Name: “Computer Matching Agreement between the Department of Health and Human Services, Centers for Medicare & Medicaid Services and the State-Based Administering Entities for Determining Eligibility for Enrollment in Applicable State Health Subsidy Programs under the Patient Protection and Affordable Care Act.”

SECURITY CLASSIFICATION:

Unclassified.

PARTICIPATING AGENCIES:

Department of Health and Human Services (HHS), Centers for Medicare & Medicaid Services (CMS), and the State-Based Administering Entities.

AUTHORITY FOR CONDUCTING MATCHING PROGRAM:

Sections 1411 and 1413 of the Patient Protection and Affordable Care Act of 2010 (Pub. L. 111-148), as amended by the Health Care and Education Reconciliation Act of 2010 (Pub. L. 111-152) (collectively, the ACA) require the Secretary of HHS to establish a program for applying for and determining eligibility for enrollment in applicable State health subsidy programs and authorizes the use of secure, electronic interfaces and an on-line system for the verification of eligibility.

The Computer Matching and Privacy Protection Act of 1988 (CMPPA) (Pub. L. 100-503), amended the Privacy Act (5 U.S.C. 552a) requires the parties participating in a matching program to execute a written agreement specifying the terms and conditions under which the matching will be conducted. CMS has determined that status verification checks to be conducted by the Federally-facilitated Exchange (FFE), and State-based Administering Entities using the data transmitted through the CMS Federal Data Services Hub constitute a “computer matching program” as defined in the CMPPA.

PURPOSE(S) OF THE MATCHING PROGRAM:

The purpose of the Computer Matching Agreement is to establish the terms, conditions, safeguards, and procedures under which CMS will disclose certain information to State-based Administering Entities in accordance with the Patient Protection and Affordable Care Act of 2010 (Pub. L. 111-148), as amended by the Health Care and Education Reconciliation Act (Pub. L. 111-152), which are referred to collectively as the Affordable Care Act (ACA), amendments to the Social Security Act made by the ACA, and the implementing regulations. The Administering Entities will use the data, accessed through the Hub, to make eligibility determinations for enrollment in an applicable State health subsidy program. This Computer Matching Agreement also establishes the terms, conditions, safeguards, and procedures under which State Medicaid/CHIP agencies shall provide data to CMS (as the Federally-facilitated Marketplace (FFM)), State-based Marketplaces (SBMs) and BHPs to verify whether an applicant or enrollee who has submitted an application to the FFM or a SBM has current eligibility or enrollment in a Medicaid/CHIP program.

DESCRIPTION OF RECORDS TO BE USED IN THE MATCHING PROGRAM:

This computer matching program will be conducted with data maintained by CMS in the Health Insurance Exchanges Program, CMS System No. 09-70-0560, as amended. The system is described in the System of Records Notice published at 78 FR 63211 (Oct. 23, 2013).

INCLUSIVE DATES OF THE MATCH:

The matching program will become effective no sooner than 40 days after the report of the matching program is sent to the Office of Management and Budget and copies of the agreement are sent to Congress, or 30 days after publication in the Federal Register, whichever is later. The matching program will continue for 18 months from the effective date and may be extended for an additional 12 months thereafter, if certain conditions are met.

[FR Doc. 2016-04732 Filed 3-2-16; 8:45 am]

BILLING CODE 4120-03-P